DEPARTMENT OF TRANSPORTATION

Federal Transit Administration

Fiscal Year 2006 Annual List of Certifications and Assurances for Federal Transit Administration Grants and Cooperative Agreements

AGENCY: Federal Transit Administration, DOT.

ACTION: Notice.

SUMMARY: Appendix A of this Notice contains the Federal Transit Administration's (FTA) comprehensive compilation of the certifications and assurances for Federal fiscal year 2006 to be used in connection with all Federal assistance programs that FTA administers during Federal fiscal year 2006. FTA is required by 49 U.S.C. 5323(n) to compile an annual list of certifications and assurances and publish them as required by 49 U.S.C. 5336(d)(2). Due to enactment of FTA's new authorizing legislation, the Safe, Accountable, Flexible, Efficient Transportation Equity Act: A Legacy for Users (SAFETEA-LU), Pub. L. 109-59, Aug. 10, 2005, FTA's annual certifications and assurances have been revised to accommodate these legislative changes, as well as changes resulting from enactment of other recent Federal legislation.

DATES: These certifications and assurances were effective on October 1, 2005, the first day of Federal fiscal year 2006.

FOR FURTHER INFORMATION CONTACT: FTA staff in the appropriate Regional Office listed below. For copies of other related documents, see the FTA Web site at http://www.fta.dot.gov or contact FTA's Office of Administration at (202) 366-4022.

Region 1: Boston

States served: Connecticut, Maine, Massachusetts, New Hampshire, Rhode Island, and Vermont

Telephone # 617-494-2055

Region 2: New York

States served: New York, New Jersey, and the Virgin Islands

Telephone # 212-668-2170

Region 3: Philadelphia

States served: Delaware, District of Columbia, Maryland, Pennsylvania, Virginia, and West Virginia

Telephone # 215-656-7100

Region 4: Atlanta

States served: Alabama, Florida, Georgia, Kentucky, Mississippi, North Carolina, Puerto Rico, South Carolina, and Tennessee

Telephone # 404-562-3500

Region 5: Chicago

States served: Illinois, Indiana, Michigan, Minnesota, Ohio, and Wisconsin

Telephone # 312-353-2789

Region 6: Dallas/Ft. Worth

States served: Arkansas, Louisiana, Oklahoma, Texas, and New Mexico

Telephone # 817-978-0550

Region 7: Kansas City

States served: Iowa, Kansas, Missouri, and Nebraska

Telephone # 816-329-3920

Region 8: Denver

States served: Colorado, Montana, North Dakota, South Dakota, Utah, and Wyoming

Telephone # 720-963-3300

Region 9: San Francisco

States served: Arizona, California, Hawaii, Nevada, Guam, American Samoa, and the Northern Mariana Islands

Telephone # 415-744-3133

Region 10: Seattle

States served: Alaska, Idaho, Oregon, and Washington

Telephone # 206-220-7954

SUPPLEMENTARY INFORMATION: Before FTA may award Federal financial assistance through a Federal grant or cooperative agreement, the Applicant must submit all certifications and assurances pertaining to itself and its project as required by Federal laws and regulations. These certifications and assurances must be submitted to FTA irrespective of whether the project is financed under the authority of 49 U.S.C. chapter 53, or Title 23, United States Code, or another Federal statute.

The Applicant's annual certifications and assurances for Federal fiscal year 2006 cover all projects for which the Applicant seeks funding during Federal fiscal year 2006 through the next fiscal year until FTA issues its annual certifications and assurances for Federal fiscal year 2007. An Applicant's annual certifications and assurances applicable to a specific grant or cooperative agreement generally remain in effect for either the duration of the grant or cooperative agreement to project closeout or the duration of the project or project property when a useful life or industry standard is in effect, whichever occurs later; EXCEPT, if the Applicant provides certifications and assurances in a later year that differ from certifications and assurances previously provided, the later certifications and assurances will apply to the grant, cooperative agreement, project, or project property, unless FTA permits otherwise.

Nevertheless, pursuant to 49 U.S.C. 3041(c)(3) of SAFETEA-LU, funds authorized or made available for Federal fiscal year 2005 shall be administered consistent with the applicable formula requirements of Transportation Equity Act for the 21st Century, TEA-21 (TEA-21), Pub. L. 105-178, June 9, 1998, as amended. As a result, to the extent that any one of the new Federal fiscal year 2006 certifications or assurances set forth in this document conflicts with the provisions of TEA-21, that new certification or assurance will not apply to Grants or Cooperative Agreements financed with funds obligated in Federal fiscal year 2006 that had been authorized or made available for Federal fiscal year 2005.

Background: Since Federal fiscal year 1995, FTA has been consolidating the various certifications and assurances that may be required of its Applicants and their projects into a single document for publication in the Federal Register. FTA intends to continue publishing this document annually, often in conjunction with its publication of the FTA annual apportionment Notice, which sets forth the allocations of funds made available by the latest U.S. Department of Transportation (U.S. DOT) annual appropriations act.

Effect of the Certifications and Assurances. In view of the many projects that will be implemented substantially by a subrecipient of the Applicant, FTA cautions the Applicant that, absent a written determination by FTA to the contrary, the Applicant will be responsible for compliance both by itself and by each of its subrecipients with all certifications and assurances the Applicant has selected that would involve the subrecipient or the subrecipient's activities with respect to the project. Thus, the Applicant itself is ultimately responsible for compliance with its certifications even though a project may be carried out in whole or in part by one or more subrecipients. Consequently, in providing certifications and assurances that involve the compliance of any prospective subrecipient, the Applicant is strongly encouraged to take the appropriate measures, including but not limited to obtaining sufficient documentation from each subrecipient, to assure the validity of the certifications and assurances the Applicant has made.

Federal Fiscal Year 2006 Changes: Apart from minor editorial revisions, set forth below are significant changes to FTA's certifications and assurances for Federal fiscal year 2006:

(1) The Categories of certifications and assurances have been expanded from sixteen (16) to twenty-three (23) to accommodate the different statutory provisions applicable to the new programs authorized under SAFETEA-LU and other adjustments FTA has made.

(2) Throughout the text of these Federal fiscal year 2006 certifications and assurances, the term “public transportation” has been substituted for “mass transportation” for consistency with the text of SAFETEA-LU.

(3) In the Introductory paragraph preceding the text of the certifications and assurances, the URL for the FTA Master Agreement for Federal fiscal year 2006 is identified at http://www.fta.dot.gov/16874_16882_ENG_HTML.htm.

(4) Category 01. The certifications and assurances for all Applicants have been revised as follows:

(a) The “Procurement Compliance” certification at subcategory 1.F has been transferred to a separate category.

(b) Former subcategory 1.G containing assurances, as set forth in OMB's SF-242B and SF-242F has been re-designated as subcategory 1.F.

(c) In re-designated subcategory 1.F, a reference to 49 U.S.C. 5307(k)(2), which exempts nonsupervisory employees of a public transportation system from Hatch Act restrictions, has been added to section (15). SAFETEA-LU amended 49 U.S.C. 5307 to specify this Hatch Act exemption.

(5) Category (02). No changes were made to Category 02, “Lobbying Certification.”

(6) New Category (03). The “Procurement Certification” has been revised as follows:

(a) The “Procurement Compliance” certification is now located in a separate new Category (03) to accommodate an Applicant that has not yet self-certified its procurement system to FTA.

(b) Former Categories 03 through 05 have been re-designated as Categories 04 through 06.

(7) Re-designated Category 04. The “Private Providers of Public Transportation” certification has been revised as follows:

(a) New citations to FTA's planning requirements within SAFETEA-LU have been substituted for the former citations that have been repealed.

(b) Because the SAFETEA-LU amendment to 49 U.S.C. 5323(a)(1) deleted a reference to the Secretary of Labor's Certification of Public Transportation Employee Protective Arrangements, that reference has been deleted from the “Protections for Private Providers” certification.

(8) Re-designated Category 05. The “Public Hearing” certification has been revised to conform with the SAFETEA-LU amendment to 49 U.S.C. 5323(b), which requires a public hearing to be held for a capital project if that project affects significant economic, social, or environmental interests. Thus if the interests affected are not significant, the Applicant need not publish a notice asking whether a public hearing is needed.

(9) Re-designated Category 06. No changes were made to the “Acquisition of Rolling Stock” certification requiring pre-award and post-delivery reviews.

(10) New Category 07. The “Acquisition of Capital Assets by Lease” certification has been revised as follows:

(a) This certification formerly set forth in subcategory 13.B and has been transferred to a separate category to emphasize that the certification applies to any Applicants that seek to acquire capital assets by lease.

(b) Former Categories 06 through 12 have been re-designated as Categories 08 through 14.

(11) Re-designated Category 08. The “Bus Testing” certification has been revised to clarify that FTA is maintaining one bus testing facility, currently, the Bus Testing Center at Altoona, Pennsylvania.

(12) Re-designated Category 09. The “Charter Service Agreement” certification has been revised as follows:

(a) The “Charter Service Agreement” has been revised to indicate that FTA's charter provisions apply to public transportation projects financed with Federal assistance provided for 23 U.S.C. 133, or 23 U.S.C. 142, as set forth in section 3023(g) of SAFETEA-LU.

(b) As authorized by 49 U.S.C. 5317(e)(1), which makes the requirements of 49 U.S.C. 5310 applicable to the New Freedom Program to the extent the Federal Transit Administrator, as the designee of the U.S. Secretary of Transportation, determines appropriate, the Federal Transit Administrator has determined that the Charter Service restrictions of 49 U.S.C. 5323(d) are not appropriate for the New Freedom Program to provide consistency with the Charter Service exemption provided for the Elderly Individuals and Individuals with Disabilities Formula Program and Pilot Program.

(13) Re-designated Category 10. The “School Transportation Agreement” has been revised to indicate that FTA's school transportation provisions apply to public transportation projects financed with Federal assistance provided for 23 U.S.C. 133, or 23 U.S.C. 142, as set forth in section 3023(g) of SAFETEA-LU.

(14) Re-designated Category 11. No change has been made to the “Demand Responsive Service” certification.

(15) Re-designated Category 12. No change has been made to the “Alcohol Misuse and Prohibited Drug Use” certification.

(16) Re-designated Category 13. Due to amendments to 49 U.S.C. 5307, 5309, and new 5320, the “Interest and Financing Costs” certification has been revised to substitute updated citations.

(17) Former Category 13. The various certifications within former Category 13 “Urbanized Area Formula Program” have been treated as follows:

(a) The Urbanized Area Formula Program certifications in former subcategory 13.A have been transferred to a new Category 15 herein.

(b) The Job Access and Reverse Commute Program certifications in former subcategory 13.A have been transferred to a new Category 19 herein.

(c) The Clean Fuels Formula Grant Program certifications in Former subcategories 13.A and D have been deleted because that program has been repealed and replaced by the Clean Fuels Grant Program.

(d) The Acquisition by Lease certifications in Former subcategory 13.B have been transferred to new Category 07.

(e) Subcategory 13.C has been deleted because the special certification requirements for sole source procurement of associated capital maintenance items were rescinded as a result of SAFETEA-LU amendments to 49 U.S.C. 5325.

(18) Re-designated Category 14. The “Intelligent Transportation Systems” certification has been revised to add a reference to the new citation to Intelligent Transportation System architecture provisions established in the SAFETEA-LU amendments to the ITS program.

(19) Re-designated Category 15. The “Urbanized Area Formula Program” certifications previously set forth in former subcategory 13.A, have been transferred to re-designated Category 15. The following changes have been made to the previous certifications:

(a) A separate category limited to certifications for the Urbanized Area Formula Program has been established, and

(b) The SAFETEA-LU amendments to the certification requirements of 49 U.S.C. 5307(d)(1) have been implemented in the text of the “Urbanized Area Formula Program” certifications as follows:

1. Pursuant to amended 49 U.S.C. 5307(d)(1)(A), the Applicant's requirement to certify its legal, financial, and technical capacity to carry out its proposed program of projects now requires the Applicant to certify its capacity to carry out the safety and security aspects of that program.

2. Pursuant to amended 49 U.S.C. 5307(d)(1)(E), the Applicant is now required to certify that it will comply with 49 U.S.C. 5323 and 5325.

3. Pursuant to the new 49 U.S.C. 5307(d)(1)(K), an Applicant serving an urbanized area with a population exceeding 200,000 is now required to certify annually that it will spend at least one (1) percent of its Urbanized Area Formula Program funds for transit enhancements and report its transit enhancement expenditures for the preceding year to FTA.

(20) Re-designated Category 16. The new “Clean Fuels Grant Program” certifications include the following:

(a) In the introductory text immediately preceding the certifications, Applicants are notified that they will be ultimately responsible for their own compliance with Federal laws, regulations, and directives, and for compliance by any subrecipients participating in their projects.

(b) Because the Clean Fuels Grant Program is subject to the requirements of 49 U.S.C. 5307, certifications at 49 U.S.C. 5307(d)(1) have been adapted for that Program, except for the following certifications which are determined inapplicable.

1. Because 49 U.S.C. 5307(d)(1)(J) requires the expenditure of one (1) percent of funds authorized under 49 U.S.C. 5307 for security projects, and 49 U.S.C. 5308 does not contain a similar provision with respect to funds authorized under 49 U.S.C. 5308, the Federal Transit Administrator has determined that the certification at 49 U.S.C. 5307(d)(1)(J) is inapplicable to the Clean Fuels Grant Program. If, however, 49 U.S.C. 5307 funding will be provided for projects within the Clean Fuels Grant Program, the Applicant will be required to comply with the security and transit enhancement expenditure provisions of 49 U.S.C. 5307(d)(1)(J).

2. Because 49 U.S.C. 5307(d)(1)(K) requires the expenditure of one (1) percent of funds authorized under 49 U.S.C. 5307 for transit enhancements, and 49 U.S.C. 5308 does not contain a similar provision with respect to funds authorized under 49 U.S.C. 5308, the Federal Transit Administrator has determined that the certification at 49 U.S.C. 5307(d)(1)(K) is inapplicable to the Clean Fuels Grant Program. If, however, 49 U.S.C. 5307 funding will be provided for projects within the Clean Fuels Grant Program, the Applicant will be required to comply with the security and transit enhancement expenditure provisions of 49 U.S.C. 5307(d)(1)(K).

(c) The former special certification that vehicles financed under the Clean Fuels Formula Grant Program must be operated only with clean fuels, has not been included, because that requirement, formerly at 49 U.S.C. 5308(c)(2) was repealed when SAFETEA-LU amended former 49 U.S.C. 5308.

(21) Former Categories 14, 15, and 16 have been re-designated as Categories 17, 18, and 23, respectively.

(22) New Category 17. The “Elderly Individuals and Individuals with Disabilities Formula Program” (Formula Program) and the Elderly Individuals and Individuals with Disabilities Pilot Program” (Pilot Program) certifications include the following:

(a) In the introductory text immediately preceding the certifications, Applicants are notified that they will be ultimately responsible for their own compliance with Federal laws, regulations, and directives, and for compliance by any subrecipients participating in their projects.

(b) The former certifications for the Formula Program, authorized under 49 U.S.C. 5310 have been revised as necessary to comply with SAFETEA-LU amendments and combined with certifications for the Pilot Program, authorized under subsection 3012(b) of SAFETEA-LU. Except to the extent that provisions for the Pilot Program expressly differ from the provisions for the Formula Program, Formula Program provisions will apply to projects within the Pilot Program.

(c) Because the Formula Program and Pilot Program are subject to the requirements of 49 U.S.C. 5307, certifications at 49 U.S.C. 5307(d)(1) are adapted for those programs. As authorized by 49 U.S.C. 5310(d)(1), however, the Federal Transit Administrator has determined that the following certifications required by 49 U.S.C. 5307(d)(1) are not appropriate for the Formula Program and Pilot Program:

1. Because the services financed under this program are designed specifically for and available primarily to the elderly and handicapped individuals, and because the half-fare provisions benefiting elderly individuals and handicapped individuals of 49 U.S.C. 5307(d)(1)(D) are focused on peak periods, and peak demand has not been relevant to the provision of these specialized services, the Federal Transit Administrator has determined that the half-fare requirements of 49 U.S.C. 5307(d)(1)(D) are not appropriate for the Formula Program or the Pilot Program.

2. Because 49 U.S.C. 5310 and section 3012b of SAFETEA-LU prescribe specific public participation, planning, and coordination provisions for the Formula Program and Pilot Program, Federal Transit Administrator has determined that the public participation, planning, and coordination provisions as specified in 49 U.S.C. 5307(d)(1)(F) are not appropriate for the Formula Program or Pilot Program.

3. The Federal Transit Administrator has determined that the requirements of 49 U.S.C. 5307(d)(1)(I) for a “locally developed process to solicit and consider public comment before raising a fare or carrying out a major reduction of transportation” are not appropriate for the Formula Program because by next fiscal year, 49 U.S.C. 5310(d)(2)(B) will expressly require a locally coordinated transportation plan from which projects are to be selected, while section 3012(b)(2) now requires a locally coordinated transportation plan from which projects within the Pilot Program are to be selected during this fiscal year.

4. Because 49 U.S.C. 5307(d)(1)(J) requires the expenditure of one (1) percent of funds authorized under 49 U.S.C. 5307 for security projects, and neither 49 U.S.C. 5310 nor section 3012b of SAFETEA-LU contain a similar provision with respect to funds authorized under 49 U.S.C. 5310 or section 3012b of SAFETEA-LU, the Federal Transit Administrator has determined that the certification at 49 U.S.C. 5307(d)(1)(J) is inapplicable to the Elderly Individuals and Individuals with Disabilities Formula Program and Pilot Program, and thus is not appropriate.

5. Because 49 U.S.C. 5307(d)(1)(K) requires the expenditure of one (1) percent of funds authorized under 49 U.S.C. 5307 for transit enhancements, and neither 49 U.S.C. 5310 nor section 3012b of SAFETEA-LU contain a similar provision with respect to funds authorized under 49 U.S.C. 5310 or section 3012b of SAFETEA-LU, the Federal Transit Administrator has determined that the certification at 49 U.S.C. 5307(d)(1)(K) is inapplicable to the Elderly Individuals and Individuals with Disabilities Formula Program and Pilot Program, and thus is not appropriate.

(d) The requirements of 49 U.S.C. 5310(d)(2)(A) for coordination with private nonprofit providers before transferring funds authorized for 49 U.S.C. 5310 have been added.

(e) The planning certification requirements for the Elderly Individuals and Individuals with Disabilities Pilot Program required by section 3012(b)(2) of SAFETEA-LU have been added.

(23) New Category 18. Except for streamlining, the Nonurbanized Area Formula Program certifications have not changed substantially.

(24) New Category 19. The “Job Access and Reverse Commute (JARC) Formula Grant Program” certifications include the following:

(a) In the introductory text immediately preceding the certifications, Applicants are notified that they will be ultimately responsible for their own compliance with Federal laws, regulations, and directives, and for compliance by any subrecipients participating in their projects.

(b) The certifications and assurances for the Job Access and Reverse Commute (JARC) Program, previously set forth in former subcategory 13.A, have been transferred to new separate Category 19.

(c) The former certifications for the “Job Access and Reverse Commute (JARC) Program” that is now codified at 49 U.S.C. 5316 have been revised as necessary to comply with the SAFETEA-LU amendments to former section 3037 of the Transportation Equity Act for the 21st Century.

(d) The new codified citation to the JARC Formula Grant Program, 49 U.S.C. 5316, has been substituted for the previous uncodified citation to TEA-21.

(e) Because the JARC Formula Grant Program is subject to the requirements of 49 U.S.C. 5307, certifications at the amended 49 U.S.C. 5307(d)(1) have been adapted for that Program, except for the following certifications which the Federal Transit Administrator has determined are inapplicable:

1. Because 49 U.S.C. 5307(d)(1)(J) requires the expenditure of one (1) percent of funds authorized under 49 U.S.C. 5307 for security projects, and 49 U.S.C. 5316 does not contain a similar provision with respect to funds authorized under 49 U.S.C. 5316, FTA has determined that the certification at 49 U.S.C. 5307(d)(1)(J) is inapplicable to the JARC Formula Grant Program.

2. Because 49 U.S.C. 5307(d)(1)(K) requires the expenditure of one (1) percent of funds authorized under 49 U.S.C. 5307 for transit enhancements, and 49 U.S.C. 5316 does not contain a similar provision with respect to funds authorized under 49 U.S.C. 5316, FTA has determined that the certification at 49 U.S.C. 5307(d)(1)(K) is inapplicable to the JARC Formula Grant Program.

(25) New Category 20. The “New Freedom Program” certifications include the following:

(a) In the introductory text immediately preceding the certifications, Applicants are notified that they will be ultimately responsible for their own compliance with Federal laws, regulations, and directives, and for compliance by any subrecipients participating in their projects.

(b) Because the New Freedom Program is subject to the requirements of 49 U.S.C. 5307, certifications at 49 U.S.C. 5307(d)(1) have been adapted by that Program. As authorized by 49 U.S.C. 5317(e)(1), which makes the requirements of 49 U.S.C. 5310 applicable to the New Freedom Program, the Federal Transit Administrator has determined that the following certifications required by 49 U.S.C. 5307(d)(1) and determined inappropriate for the Elderly Individuals and Individuals with Disabilities Formula Program, 49 U.S.C. 5310, are inappropriate for the New Freedom Program:

1. Because the services financed under this program are designed specifically for and will be available primarily to the elderly and handicapped individuals, and because the half-fare provisions benefiting elderly individuals and handicapped individuals of 49 U.S.C. 5307(d)(1)(D) are focused on peak periods, and peak demand is not expected to be relevant to the provision of these specialized services, the Federal Transit Administrator has determined that the half-fare requirements of 49 U.S.C. 5307(d)(1)(D) are not appropriate for the New Freedom Program. If, however, a New Freedom project will also be supported by Federal financial assistance derived from 49 U.S.C. 5307, the Applicant will be required to comply with the half-fare requirements of 49 U.S.C. 5307(d)(1)(K).

2. Because 49 U.S.C. 5317 prescribes specific public participation, planning, and coordination provisions for the New Freedom Program, Federal Transit Administrator has determined that the public participation, planning, and coordination provisions as specified in 49 U.S.C. 5307(d)(1)(F) are not appropriate for the New Freedom Program.

3. The Federal Transit Administrator has determined that the requirements of 49 U.S.C. 5307(d)(1)(I) for a “locally developed process to solicit and consider public comment before raising a fare or carrying out a major reduction of transportation” are not appropriate for the New Freedom Program because by next fiscal year, 49 U.S.C. 5317(f)(3) expressly requires a locally coordinated transportation plan from which projects are to be selected.

4. Because 49 U.S.C. 5307(d)(1)(J) requires the expenditure of one (1) percent of funds authorized under 49 U.S.C. 5307 for security projects, and 49 U.S.C. 5317 does not contain a similar provision with respect to funds authorized under 49 U.S.C. 5317, the Federal Transit Administrator has determined that the certification at 49 U.S.C. 5307(d)(1)(J) is inapplicable to the New Freedom Program, and thus is not appropriate.

5. Because 49 U.S.C. 5307(d)(1)(K) requires the expenditure of one (1) percent of funds authorized under 49 U.S.C. 5307 for transit enhancements, and 49 U.S.C. 5317 does not contain a similar provision with respect to funds authorized under 49 U.S.C. 5317, the Federal Transit Administrator has determined that the certification at 49 U.S.C. 5307(d)(1)(K) is inapplicable to the New Freedom Program, and thus is not appropriate.

(c) The requirements of 49 U.S.C. 5310(d)(2)(A) for coordination with private nonprofit providers before transferring funds authorized for 49 U.S.C. 5317 is included.

(26) New Category 21. Certifications for the new “Alternative Transportation in Parks and Public Lands Program” include the following:

(a) In the introductory text immediately preceding the certifications, Applicants are notified that they will be ultimately responsible for their own compliance with Federal requirements and for compliance by any subrecipients participating in their projects.

(b) Because the Alternative Transportation in Parks and Public Lands Program is subject to the requirements of 49 U.S.C. 5307, certifications at 49 U.S.C. 5307(d)(1) have been adapted for that Program. As authorized by 49 U.S.C. 5320(i), which makes the requirements of 49 U.S.C. 5307 applicable to the Alternative Transportation in Parks and Public Lands Program, the Federal Transit Administrator has determined that the following certifications required by 49 U.S.C. 5307(d)(1) are not appropriate for the Alternative Transportation in Parks and Public Lands Program:

1. The Federal Transit Administrator has determined that the requirements of 49 U.S.C. 5307(d)(1)(I) for a “locally developed process to solicit and consider public comment before raising a fare or carrying out a major reduction of transportation” are not appropriate for the Alternative Transportation in Parks and Public Lands Program because the clear majority of prospective passengers and constituents that would benefit from the Alternative Transportation in Parks and Public Lands Program would not be local residents, but would encompass visitors from throughout the United States, and even the world.

2. Because 49 U.S.C. 5307(d)(1)(J) requires the expenditure of one (1) percent of funds authorized under 49 U.S.C. 5307 for security projects, and 49 U.S.C. 5320 does not contain a similar provision with respect to funds authorized under 49 U.S.C. 5320, the Federal Transit Administrator has determined that the certification at 49 U.S.C. 5307(d)(1)(J) is inapplicable to the Alternative Transportation in Parks and Public Lands Program, and thus is not appropriate.

3. Because 49 U.S.C. 5307(d)(1)(K) requires the expenditure of one (1) percent of funds authorized under 49 U.S.C. 5307 for transit enhancements, and 49 U.S.C. 5320 does not contain a similar provision with respect to funds authorized under 49 U.S.C. 5320, the Federal Transit Administrator has determined that the certification at 49 U.S.C. 5307(d)(1)(K) is inapplicable to the Alternative Transportation in Parks and Public Lands Program, and thus is not appropriate.

(27) New Category 22. A new category of certifications has been established for “Infrastructure Finance Projects” because 49 U.S.C. 5323(o) makes the requirements of 49 U.S.C. 5307 and 5309 applicable to projects receiving Infrastructure Finance assistance authorized under 23 U.S.C. chapter 6. Thus, the certification requirements of 49 U.S.C. 5307(d)(1), imposing administrative and project requirements, and 5309(g)(2)(B)(iii), imposing restrictions on Federal participation in interest costs, have been adapted for projects assisted through the Infrastructure Finance provisions of 23 U.S.C. chapter 6.

(28) New Category 23. The certifications and assurances for the SIB Program have been amended to enter the new citation to that Program resulting from enactment of Sections 1601 and 1602 of SAFETEA-LU. The SIB Program is now permanent law, codified at 23 U.S.C. 610, and that citation has been added to the certifications and assurances, as well as acknowledgment of revised planning requirements.

Text of Federal Fiscal Year 2006 Certifications and Assurances: The text of the certifications and assurances in Appendix A of this Notice appears at http://www.fta.dot.gov/6092_16884_ENG_HTML.htm. It also appears in TEAM-Web in the “Recipients” option of the Cert's & Assurances tab of “View/Modify Recipients.” It is important that each Applicant be familiar with all twenty-three (23) certification and assurance categories and their provisions, as they may be a prerequisite for receiving FTA financial assistance. Provisions of this Notice supersede conflicting statements in any FTA circular containing a previous version of FTA's annual certifications and assurances. The certifications and assurances contained in those FTA circulars are merely examples, and are not acceptable or valid for Federal fiscal year 2006; do not rely on the provisions of certifications and assurances appearing in FTA circulars.

Significance of Certifications and Assurances: Selecting and submitting certifications and assurances to FTA, either through TEAM-Web or submission of the Signature Page(s) of Appendix A, signifies the Applicant's intent to comply with and secure compliance by its subrecipients, if any, with the provisions of the certifications and assurances it has selected to the extent they apply to a project for which the Applicant submits an application for assistance in Federal fiscal year 2006. FTA cautions, however, that certifications and assurances required by law and regulation do not address all Federal laws, regulations, or directives with which an Applicant must comply before FTA may award Federal financial assistance. We therefore strongly encourage the Applicant to review the Federal authorizing legislation, regulations, and directives pertaining to the program or programs for which the Applicant seeks Federal assistance to determine the extent of all pre-award laws, regulations, or directives applicable to those programs.

Attorney's Affirmation: FTA requires a current (Federal fiscal year 2006) affirmation, signed by the Applicant's attorney, of the Applicant's legal authority to certify compliance with the provisions of the certifications and assurances the Applicant has selected. Irrespective of whether the Applicant makes a single selection for all twenty-three (23) categories or selects individual options from the twenty-three (23) categories, the Affirmation of Applicant's Attorney from a previous year is not acceptable, unless FTA expressly determines otherwise in writing.

Deadline for Submission: All Applicants for FTA formula program or capital investment program assistance, and current FTA grantees with an active project financed with FTA formula program or capital investment program assistance, are expected to provide certifications and assurances for Federal fiscal year 2006 within 90 days from the date of this publication or as soon as feasible after their first grant application for funds authorized or made available during Federal fiscal year 2006, whichever is earlier. In addition, FTA encourages Applicants seeking Federal financial assistance for other projects to submit their certifications and assurances as soon as possible.

Preference for Electronic Submission: Applicants registered in TEAM-Web must submit their certifications and assurances, as well as their applications for Federal assistance in TEAM-Web. Only if an Applicant is unable to submit its certifications and assurances in TEAM-Web should the Applicant use the Signature Page(s) in Appendix A of this Notice.

Procedures for Electronic Submission: The TEAM-Web “Recipients” option at the “Cert's & Assurances” tab of “View/Modify Recipients” contains fields for selecting among the twenty-three (23) Categories of certifications and assurances to be submitted. Within that tab is a field for the Applicant's authorized representative to enter its personal identification number (PIN), which constitutes the Applicant's electronic signature for the certifications and assurances it has selected. In addition, there is a field for the Applicant's attorney to enter his or her PIN, affirming the Applicant's legal authority to make and comply with the certifications and assurances the Applicant has selected. In certain circumstances, the Applicant may enter its PIN in lieu of its Attorney's PIN, provided that the Applicant has on file the Affirmation of Applicant's Attorney in Appendix A of this Notice, written and signed by the attorney and dated this Federal fiscal year. For more information, Applicants may contact the appropriate Regional Office listed in this Notice or the TEAM-Web Helpdesk.

Procedures for Paper Submission: If an Applicant is unable to submit its certifications and assurances electronically, it must mark the certifications and assurances it is making on the Signature Page(s) in Appendix A of this Notice and submit it to FTA. The Applicant may signify compliance with all Categories by placing a single mark in the appropriate space or select the Categories applicable to itself and its projects. In certain circumstances, the Applicant may enter its signature in lieu of its Attorney's signature in the Affirmation of Applicant's Attorney section of the Signature Page(s), provided that the Applicant has on file the Affirmation of Applicant's Attorney in Appendix A of this Notice, written and signed by the attorney and dated in this Federal fiscal year 2006, and has submitted a copy of this affirmation to FTA. For more information, Applicants may contact the appropriate Regional Office listed in this Notice.

References. 49 U.S.C. chapter 53; the Safe, Accountable, Flexible, Efficient Transportation Equity Act: A Legacy for Users (SAFETEA-LU), Pub. L. 109-59, Aug. 10, 2005; the Transportation Equity Act for the 21st Century, Pub. L. 105-178, June 9, 1998, as amended by the TEA-21 Restoration Act, Pub. L. 105-206, July 22, 1998; Title 23, United States Code, other Federal laws administered by FTA, U.S. DOT and FTA regulations at Title 49, Code of Federal Regulations; and FTA Circulars.

Dated: November 4, 2005.
Jennifer L. Dorn,
Administrator.

BILLING CODE 4910-57-P

[FR Doc. 05-22525 Filed 11-14-05; 8:45 am]

BILLING CODE 4910-57-C